DEPARTMENT OF EDUCATION

RIN 1865-ZA03

Grants for School-Based Student Drug-Testing Programs

AGENCY: Office of Safe and Drug-Free Schools, Department of Education.

ACTION: Notice of proposed priority, eligibility and application requirements, and selection criteria.

SUMMARY: The Assistant Deputy Secretary for Safe and Drug-Free Schools proposes a priority, eligibility and application requirements, and selection criteria under the Safe and Drug-Free Schools and Communities National Programs for the School-Based Student Drug-Testing Programs grant program. The Assistant Deputy Secretary may use the priority, requirements, and selection criteria for competitions in fiscal year 2006 and later years. We take this action to focus Federal financial assistance on an identified national need. We intend for the priority, requirements, and selection criteria to contribute substantially to existing knowledge about the efficacy of mandatory random student drug testing as a means of deterring student drug use.

DATES: We must receive your comments on or before June 21, 2006.

ADDRESSES: Address all comments about the priority, requirements, and selection criteria to Robyn L. Disselkoen, U.S. Department of Education, 400 Maryland Avenue, SW., room 3E251, Washington, DC 20202-6450. If you prefer to send your comments through the Internet, use the following address: OSDFSdrugtesting@ed.gov.

You must include the term “Comments on 2006 Student Drug-Testing Notice” in the subject line of your electronic message.

FOR FURTHER INFORMATION CONTACT: Robyn Disselkoen at (202) 260-3954.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding the proposed priority, requirements, and selection criteria. To ensure that your comments have maximum effect in developing the notice of final priority, eligibility and application requirements, and selection criteria, we urge you to identify clearly the specific priority, requirement, or selection criterion that each comment addresses.

We invite you to assist us in complying with the specific requirements of Executive Order 12866 and its overall requirement of reducing regulatory burden that might result from the proposed priority, requirements, and selection criteria. Please let us know of any further opportunities we should take to reduce potential costs or increase potential benefits while preserving the effective and efficient administration of the program.

During and after the comment period, you may inspect all public comments about the proposed priority, requirements, and selection criteria in room 3E251, 400 Maryland Avenue, SW., Washington DC, between the hours of 8:30 a.m. and 4 p.m., Washington, DC time, Monday through Friday of each week except Federal holidays.

Assistance to Individuals With Disabilities in Reviewing the Rulemaking Record

On request, we will supply an appropriate aid, such as a reader or print magnifier, to an individual with a disability who needs assistance to review the comments or other documents in the public rulemaking record for the proposed priority, requirements, and selection criteria. If you want to schedule an appointment for this type of aid, please contact the person listed under FOR FURTHER INFORMATION CONTACT.

Background

Although drug use among America's youth has declined in recent years, far too many young people continue to use these harmful substances. Results of the 2005 Monitoring the Future survey, for example, show that in the 12 months prior to the survey, 15.2 percent of 8th-grade students, 31.1 percent of 10th-grade students, and 38.8 percent of 12th-grade students indicated that they had used illicit drugs. (Johnston, L.D., O'Malley, P.M., Bachman, J.G., & Schulenberg, J.E. (2005). Monitoring the Future national survey results on drug use, 1975-2004. Volume I: Secondary school students (NIH Publication No. 05-5727). Bethesda, MD: National Institute on Drug Abuse, p. 201).

The consequences of drug use by this vulnerable population are clear. According to the U.S. Department of Health and Human Services' Substance Abuse and Mental Health Services Administration (SAMHSA), students who use illegal drugs are more likely than students who do not use illegal drugs to have negative attitudes about school and to have demonstrated the following delinquent behaviors: Engaged in a serious fight at school or work, attacked someone with the intent to inflict serious injury, carried a handgun, sold illegal drugs, or stole or tried to steal something worth $50 or more. (Results from the 2002 National Survey on Drug Use and Health: National Findings [DHHS Publication No. SMa 03-3836 NSDUH Series H-22] Rockville, MD: Substance Abuse and Mental Health Services Administration).

The National Drug Control Strategy, issued by the Office of National Drug Control Policy (ONDCP) in February 2006, (http://www.whitehousedrugpolicy.gov/publications/policy/ndcs06/ndcs06.pdf) notes: “The greatest pressure on young people to start using drugs does not come from drug pushers but from their peers. It is, therefore, important to continue to educate young people about the dangers of drug use and build a cultural norm that views illicit drug use as unacceptable.” An important part of promoting a culture that supports healthy, drug-free choices by young people requires providing disincentives to using drugs. According to the Strategy: “Screening for drugs is an important way to send the message that drug use is unacceptable. * * * Screening for drug use gives young people an ‘out' to say no to drugs.”

Several recent studies have contributed to a growing body of knowledge about the potential effectiveness of drug testing in deterring drug use by youth. None of these studies, however, has employed a randomized control trial, the type of research design needed to make a valid determination of whether mandatory random student drug testing deters drug use.

Therefore, the U.S. Department of Education (ED), through these grants to reduce student drug use, proposes to conduct the first large-scale national evaluation of the effectiveness of mandatory random student drug testing using a randomized control trial study design.

Description of the National Evaluation

All schools proposed by applicants funded under this priority will participate in the national evaluation.¹ These schools will be randomly assigned by the national evaluation contractor to one of two conditions: (1) Implement mandatory random student drug testing immediately after the baseline student survey to be conducted by the national evaluator in early 2007; or (2) not promote or implement mandatory random student drug testing at any time until the conclusion of the data collection for the national evaluation in spring 2008.

¹ ED's Institute of Education Sciences (IES) will award a contract to conduct a national evaluation to assess the impact of mandatory random student drug testing on two populations of interest: (1) Students who participate in athletics and/or competitive extra-curricular activities; and (2) students who do not participate in these activities.

In all participating schools, for each round of data collection, up to 200 students will participate in confidential and anonymous surveys about substance use conducted by the national evaluator. These student surveys, which will support the national evaluation, will be conducted in spring 2007 (before drug testing begins in any school), in fall 2007, and in spring 2008. During this period, the national evaluator will also collect other evaluation information through staff interviews.

In addition, the national evaluator will administer student surveys in school years 2008-2009 and 2009-2010 in order to collect data to fulfill ED's requirement that grantees report annually on the Government Performance and Results Act (GPRA) performance measures established for this program. Grantees will have no responsibility for evaluating their program or for collecting data and reporting on GPRA. For that reason, and because the work of the national evaluator is subject to the IES confidentiality statutes (20 U.S.C. 9573), which provide for an exemption of Protection of Human Subjects regulations (34 CFR 97.101(b)(3)(ii)), ED does not believe grantees need to seek approval from an Institutional Review Board (IRB).

Approximately one month after the early 2007 student survey is completed, the evaluator will notify grantees of the random assignment status of each school to either the first or the second wave of implementation. Schools assigned to the first wave of implementation will begin conducting mandatory random student drug testing immediately (spring 2007). After completion of the spring 2008 student survey, schools assigned to the second wave of implementation may begin mandatory random student drug testing.

We will announce the final priority, requirements, and selection criteria in a notice in the Federal Register. We will determine the final priority, requirements, and selection criteria after considering responses to this notice and other information available to ED. This notice does not preclude us from proposing or using other priorities, requirements, and selection criteria subject to meeting applicable rulemaking requirements.

Note: This notice does not solicit applications. In any year in which we choose to use the priority, we invite applications through a notice in the Federal Register. When inviting applications, we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Proposed Priority

Participation in Evaluation of Mandatory Random Student Drug-Testing Programs

Under this proposed priority, we will support local educational agencies (LEAs) that agree to participate in a national evaluation of the impact of mandatory random student drug testing on high school students' reported substance use. In order to meet this priority an applicant must:

(1) Agree to carry out its drug-testing program in a manner consistent with the randomized control trial evaluation design developed by ED and its national evaluator;

(2) Propose at least two schools with three or more grades 9 through 12 to participate in the national evaluation;

(3) Not have an existing drug-testing program in operation in any of the schools proposed by the applicant for participation in the national evaluation;

(4) Consent to the evaluator's random assignment of one-half of the schools proposed by the applicant for participation in the national evaluation to begin mandatory random student drug-testing implementation in year one of the grant (following the spring 2007 survey of students), and one-half to begin mandatory random student drug testing approximately one year later (after the spring 2008 survey of students has been completed);

(5) Agree that the schools proposed by the applicant for participation in the national evaluation will limit their mandatory random student drug-testing program to students in grades 9 through 12, and within that group of students to one or both of the following:

(a) All students who participate in the school's athletic program; and

(b) All students who are engaged in competitive, extra-curricular school-sponsored activities;

Note: Competitive, extra-curricular school-sponsored activities means any activity under the direct control of the school in which students compete against students in another school. If the State maintains a list of sanctioned competitive, extra-curricular school-sponsored activities, the applicant may consider those activities to be competitive, extra-curricular school-sponsored activities for the purposes of this program.

(6) Not promote or begin the implementation of its mandatory random student drug-testing program in any participating schools until it receives notification from the national evaluator about the random assignment of its schools to participate in the first or second wave of implementation, except that an applicant may conduct outreach and generate community support for its drug-testing policy;

(7) Delay the promotion, announcement, and start of the mandatory random student drug-testing program in schools assigned to the second wave of implementation until the spring 2008 student survey has been completed;

(8) Cooperate with evaluation data collection activities, including facilitating the national evaluator's efforts to obtain parental consent for student participation in the surveys, by providing contact information and scheduling and making available space for the administration of the surveys in the schools; and

(9) Implement its mandatory random student drug-testing program consistently across participating schools and according to uniform LEA policies and procedures during the evaluation period.

Once a participating school has begun implementing its mandatory random student drug-testing program in accordance with the requirements of this priority, and following the completion of the spring 2008 student survey, the LEA at its discretion, may announce, promote, implement and use grant funds for testing—

(a) In schools assigned to the second wave of implementation;

(b) Students in any grade 6 through 12 who, along with their parent or guardian, volunteer to be tested; and

(c) Students in grades 6 through 8 who participate in the school's athletic programs or competitive, extra-curricular school-sponsored activities.

Proposed Eligibility and Application Requirements: We propose the following eligibility requirements for applications submitted under this program:

(1) LEAs are the only eligible applicants; and

(2) An applicant may not have been the recipient of, or a participant in, a grant in 2005 under ED's School-Based Grants for Student Drug-Testing competition (84.184D).

We propose the following requirements for applications submitted under this program:

(1) An applicant may not submit more than one application for a grant under the competition.

(2) In its application, an applicant must:

(a) Clearly identify the student population that will be in the drug-testing pool including, to the extent feasible, the number of students in the pool by grade, and demonstrate a significant need for drug testing within the target population;

(b) Propose to test a minimum of 50 percent of the testing pool annually, and use at least a five-panel test (marijuana, amphetamine, cocaine, methamphetamine, and opiates);

(c) Explain how the proposed drug-testing program will be part of an existing, comprehensive drug prevention program in the schools to be served;

(d) Provide a comprehensive plan for referring students who are identified through the testing program as users of illegal drugs or legal medications taken without a prescription to a student assistance program, counseling, or drug treatment if necessary;

(e) Provide a plan to ensure the confidentiality of drug-testing results, including a provision that prohibits the party conducting drug tests from disclosing to school officials any information about a student's use of legal medications for which the student has a prescription;

(f) Provide written assurances of the following:

(i) That results of student drug tests will not be disclosed to law enforcement officials;

(ii) That results of student drug tests will be destroyed when the student graduates or otherwise leaves the LEA or private school involved;

(iii) That all positive drug tests will be reviewed by a certified medical review officer;

(iv) That legal counsel has reviewed the proposed drug-testing program and advised that the program activities do not appear to violate established constitutional principles or State and Federal requirements related to implementing a mandatory random student drug-testing program;

(v) That all proposed activities will be carried out in accordance with the requirements of the Family Educational Rights and Privacy Act (FERPA) and the Protection of Pupil Rights Amendment (PPRA);

(vi) That the mandatory random student drug-testing program is ready to begin no later than 9 months after receipt of the grant award. We will consider a grantee's failure to achieve readiness to begin its program within 9 months of the grant award as a failure to make substantial progress consistent with the requirements of the Education Department General Administrative Regulations (EDGAR) in § 75.253(2)(i). This failure could result in loss of funding for year two of the project period or termination of the grant;

(vii) That mandatory random student drug testing will be conducted for the entire academic year in the schools selected to implement drug testing; and

(viii) That, to the extent feasible, schools randomly assigned to begin drug testing in year one of the grant will retain the same testing pool (for example, all students participating in athletics and/or all students participating in competitive, extracurricular school-sponsored activities without regard to the timing of their activity) until the completion of the 2008 student survey.

(3) Funds awarded under this program may not be used for any of the following purposes:

(a) Student drug tests administered under suspicion of drug use;

(b) Incentives for students to participate in the drug-testing program;

(c) Drug treatment;

(d) Drug prevention curricula or other prevention programs;

(e) Drug tests for students in non-competitive extra-curricular activities who do not otherwise meet the eligibility criteria;

(f) Drug tests for students in co-curricular activities who do not otherwise meet the eligibility criteria; or

(g) Drug tests for student drivers who park on campus who do not otherwise meet the eligibility criteria.

Proposed Selection Criteria

The Secretary proposes to select from the following criteria those factors that will be used to evaluate applications under this competition.

(1) Need for Project. (a) The documented magnitude of student drug use in schools to be served by the mandatory random student drug-testing program, including the nature, type, and frequency, if known, of drug use by students in the target population; and,

(b) Other evidence, if any, of student drug use in schools to be served by the mandatory random student drug-testing program, which may include, but is not limited to, reports from parents, students, school staff, or law enforcement officials.

(2) Significance. (a) The extent to which the proposed project includes a thorough, high-quality review of Federal and State laws and relevant Supreme Court decisions related to the proposed student drug-testing program.

(b) The extent to which the applicant demonstrates school and community support for the student drug-testing program and has obtained the input of groups representing a diversity of perspectives, for example, private schools, parents, counselors, teachers, and school board members, in the development of the mandatory random student drug-testing program; and

(c) The importance or magnitude of the results or outcomes likely to be attained by the mandatory random student drug-testing program in the grantee's schools.

(3) Quality of Project Design. (a) The extent to which the project will be based on up-to-date knowledge from research and effective practice, including the methodology for the random selection of students to be tested and procedures outlining the collection, screening, confirmation, and review of student drug tests by a certified medical review officer.

(b) The quality of the applicant's plan to develop and implement a mandatory random student drug-testing program that includes—

(i) Evidence of the applicant's readiness to begin mandatory random student drug testing in the first year of the grant; and

(ii) Detailed procedures outlining how the school will respond to a student's positive drug test, including parental notification and referral to student assistance programs, drug education, or formal drug treatment, if necessary.

(4) Management Plan. (a) The extent to which the applicant describes appropriate chain-of-custody procedures for test samples and demonstrates a commitment to use labs certified by the U.S. Department of Health and Human Services' Substance Abuse and Mental Health Services Administration to process student drug tests.

(b) The quality of the applicant's plan to ensure confidentiality of drug test results, including limiting the number of school officials who will have access to student drug-testing records.

(5) Adequacy of resources. The adequacy of support from the applicant, including project staff, facilities, equipment, supplies, and other resources necessary to implement a high-quality mandatory random student drug-testing program.

Executive Order 12886

This notice of proposed priority, eligibility and application requirements, and selection criteria has been reviewed in accordance with Executive Order 12866. Under the terms of the order, we have assessed the potential costs and benefits of this regulatory action.

The potential costs associated with the notice of proposed priority, eligibility and application requirements, and selection criteria are those we have determined as necessary for administering this program effectively and efficiently.

In assessing the potential costs and benefits—both quantitative and qualitative—of this notice of proposed priority, eligibility and application requirements, and selection criteria, we have determined that the benefits of the proposed priority, requirements, and selection criteria justify the costs.

We have also determined that this regulatory action does not unduly interfere with State, local, and tribal governments in the exercise of their governmental functions.

Summary of Potential Costs and Benefits

The potential cost associated with the proposed priority, requirements, and selection criteria is minimal while the benefits are significant. Grantees may anticipate costs related to engaging the community in discussions about the utility of mandatory random student drug testing as a means of deterring youth drug use and in developing and gaining approval for a comprehensive policy supporting mandatory random student drug testing and establishing consistent policies and procedures. Other potential costs are those associated with completing the application process in terms of staff time, copying, and mailing or delivery.

The primary benefit of the proposed priority, requirements, and selection criteria is that grantees may reduce student drug use by supporting school-based mandatory random student drug-testing programs. In addition, participation in the national evaluation means grantees will not have to conduct an independent evaluation of their project nor will they have to report to the Department on their progress toward meeting the GPRA measures established for this program. All data collection and evaluation will be carried out by the national evaluator on behalf of the grantees and reported to the Department.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access To This Document

You may view this document, as well as all other Department of Education documents published in the Federal Register, in text or Adobe Portable Document Format (PDF) on the Internet at the following site: http://www.ed.gov/news/fedregister.

To use PDF, you must have Adobe Acrobat Reader, which is available free at this site. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.gpoaccess.gov/index.html.

(Catalog of Federal Domestic Assistance Number 84.184D Office of Safe and Drug-Free Schools National Programs -Grants for School-Based Student Drug-Testing Programs)

Program Authority: 20 U.S.C. 7131.

Dated: May 17, 2006.
Deborah A. Price,
Assistant Deputy Secretary for Safe and Drug-Free Schools.

[FR Doc. E6-7749 Filed 5-19-06; 8:45 am]

BILLING CODE 4000-01-P